DEPARTMENT OF ENERGY

Federal Energy Regulatory Commission

Notice of Effectiveness of Holding Company and Transaction Exemptions and Waivers

August 29, 2006.

| Docket No.
ALLETE, Inc | PH06-49-000
AOG Corporation | PH06-50-000
American States Water Company | PH06-51-000
Consolidated Edison, Inc | PH06-52-000
CH Energy Group | PH06-53-000
Energy East Corporation | PH06-54-000
RGS Energy Group, Inc | PH06-55-000
Energen Corporation | PH06-56-000
UGI Corporation | PH06-57-000
Puget Energy, Inc | PH06-58-000
HH-SU Investments L.L.C | PH06-59-000
Cap Rock Energy Corporation | PH06-60-000
Peoples Energy Corporation | PH06-61-000
Peoples Energy Corporation | PH06-62-000
Duquesne Light Holdings, Inc | PH06-63-000
Milliken & Company | PH06-64-000
Intermountain Industries, Inc | PH06-65-000
TXU Corp | PH06-66-000
Cleco Corporation | PH06-67-000
KeySpan Energy Corporation | PH06-68-000
KeySpan New England, LLC | PH06-69-000
WPS Resources Corporation | PH06-70-000

Take notice that in July 2006 the holding company and transaction exemptions and waivers requested in the above-captioned proceedings are deemed to have been granted by operation of law pursuant to 18 CFR 366.4.

Magalie R. Salas,
Secretary.

[FR Doc. E6-15142 Filed 9-12-06; 8:45 am]

BILLING CODE 6717-01-P